DEPARTMENT OF HOMELAND SECURITY

Federal Emergency Management Agency

[Docket ID: FEMA-2012-0024; OMB Number 1660-0108]

Agency Information Collection Activities: Proposed Collection; Comment Request, National Emergency Family Registry and Locator System (NEFRLS)

AGENCY: Federal Emergency Management Agency, DHS.

ACTION: Notice.

SUMMARY: The Federal Emergency Management Agency, as part of its continuing effort to reduce paperwork and respondent burden, invites the general public and other Federal agencies to take this opportunity to comment on a revision of a currently approved information collection. In accordance with the Paperwork Reduction Act of 1995, this notice seeks comments concerning the FEMA National Emergency Family Registry and Locator System (NEFRLS), which allows adults that have been displaced by a Presidentially-declared disaster or emergency to reunify with their families.

DATES: Comments must be submitted on or before September 28, 2012.

ADDRESSES: To avoid duplicate submissions to the docket, please use only one of the following means to submit comments:

(1) Online. Submit comments at www.regulations.gov under Docket ID FEMA-2012-0024. Follow the instructions for submitting comments.

(2) Mail. Submit written comments to Docket Manager, Office of Chief Counsel, DHS/FEMA, 500 C Street SW., Room 835, Washington, DC 20472-3100.

(3) Facsimile. Submit comments to (703) 483-2999.

All submissions received must include the agency name and Docket ID. Regardless of the method used for submitting comments or material, all submissions will be posted, without change, to the Federal eRulemaking Portal at http://www.regulations.gov, and will include any personal information you provide. Therefore, submitting this information makes it public. You may wish to read the Privacy Act notice that is available via the link in the footer of www.regulations.gov.

FOR FURTHER INFORMATION CONTACT: Earnest Poindexter, Information Technology Specialist, Recovery Directorate, Individual Assistance Division, (202) 212-4883. You may contact the Records Management Division for copies of the proposed collection of information at facsimile number (202) 646-3347 or email address: FEMA-Information-Collections-Management@dhs.gov.

SUPPLEMENTARY INFORMATION: The Post-Katrina Emergency Management Reform Act of 2006, in Title VI of the DHS Appropriations Act of 2007 (the Post Katrina Reform Act), Public Law 109-295, Section 689c, 120 Stat. 1355 at 1451 is the legal basis for FEMA to provide a National Emergency Family Registry and Locator System (NEFRLS). NEFRLS allows adults (including medical patients), that have been displaced by a Presidentially-declared major disaster or emergency, to voluntarily register by submitting personal information to be entered into a database that could be used by others to help reunify them with their families. Children who are traveling with their families during a Presidentially-declared major disaster or emergency can be listed in NEFRLS. NEFRLS allows a registrant to designate up to 7 individuals who are authorized to search for and access the registrant's information in the system. The ability to list children within NEFRLS is only to indicate which family members are together and safe.

Collection of Information

Title: National Emergency Family Registry and Locator System.

Type of Information Collection: Revision of a currently approved information collection.

OMB Number: 1660-0108.

Form Titles and Numbers: None.

Abstract: NEFRLS is a Web-based database enabling FEMA to provide a nationally available and recognized database allowing adults (including medical patients) that have been displaced by a Presidentially-declared major disaster or emergency to voluntarily register via the Internet or a toll-free number. This database will then allow designated individuals to search for displaced friends, family, and household members.

Affected Public: Individuals and households.

Number of Respondents: 56,000.

Number of Responses: NEFRLS Tele-registration: 42,000; NEFRLS Internet Registration: 14,000.

Estimated Total Annual Burden Hours: 4,600 hours.

Estimated Cost: There are no annual record keeping, capital, startup, nor maintenance costs associated with this information collection.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Dated: July 24, 2012.
Charlene D. Myrthil,
Director, Records Management Division, Mission Support Bureau, Federal Emergency Management Agency, Department of Homeland Security.

[FR Doc. 2012-18574 Filed 7-27-12; 8:45 am]

BILLING CODE 9111-23-P